DEPARTMENT OF COMMERCE

National Oceanic and Atmospheric Administration

Coral Reef Conservation Program

AGENCY: Coral Reef Conservation Program, Office for Coastal Management, National Ocean Service, National Oceanic and Atmospheric Administration, U.S. Department of Commerce.

ACTION: Notice of public meeting, notice of public comment.

SUMMARY: Notice is hereby given of a public meeting of the U.S. Coral Reef Task Force (USCRTF). The meeting will be held Thursday, February 23, 2017, at 9:00 a.m. in Washington, DC, at the U.S. Department of Interior, 1925 Constitution Avenue NW., 20006. The meeting provides a forum for coordinated planning and action among federal agencies, state and territorial governments, and nongovernmental partners. Registration is requested for all events associated with the meeting. This meeting has time allotted for public comment. All public comments must be submitted in written format. A written summary of the meeting will be posted on the USCRTF Web site within two months of occurrence. For information about the meeting, registering and submitting public comments, go to http://www.coralreef.gov.

Commenters may address the meeting, the role of the USCRTF, or general coral reef conservation issues. Before including your address, phone number, email address, or other personal identifying information in your comments, you should be aware that your entire comment, including personal identifying information may be made publicly available at any time. While you can ask us in your comment to withhold your personal identifying information from public review, we cannot guarantee that we will be able to do so.

Established by Presidential Executive Order 13089 in 1998, the U.S. Coral Reef Task Force mission is to lead, coordinate and strengthen U.S. government actions to better preserve and protect coral reef ecosystems. Co-chaired by the Departments of Commerce and Interior, Task Force members include leaders of 12 federal agencies, seven U.S. states and territories and three freely associated states.

FOR FURTHER INFORMATION CONTACT: Jennifer Koss, NOAA USCRTF Steering Committee Point of Contact, NOAA Coral Reef Conservation Program, 1305 East-West Highway, N/OCRM, Silver Spring, MD 20910 at 301-533-0777 or Liza Johnson, USCRTF Executive Secretary, U.S. Department of Interior, MS-3530-MIB, 1849 C Street NW., Washington, DC 20240 at (202) 208-5004 or visit the USCRTF Web site at http://www.coralreef.gov

Dated: January 10, 2017.
Christopher Cartwright,
Chief Financial Officer, National Ocean Service, National Oceanic and Atmospheric Administration.

[FR Doc. 2017-00845 Filed 1-17-17; 8:45 am]

BILLING CODE P